DEPARTMENT OF AGRICULTURE

Agricultural Marketing Service

[Doc. No. AMS-LPS-18-0005]

Soybean Promotion, Research, and Information Program: Opportunity To Request a Referendum

AGENCY: Agricultural Marketing Service, USDA.

ACTION: Notice.

SUMMARY: The Agricultural Marketing Service (AMS) announces that soybean producers may request a referendum to determine if producers want the Secretary to conduct a referendum on the Soybean Promotion and Research Order (Order), as authorized under the Soybean Promotion, Research, and Consumer Information Act (Act). Participation in the Request for Referendum is voluntary. Producers should participate only if they wish to request a referendum on the program.

If at least 10 percent (not in excess of one-fifth of which may be producers in any one State) of the 515,008 eligible producers, as determined by the U.S. Department of Agriculture (USDA), participate in the Request for Referendum, a referendum will be held within 1 year from that determination. If results of the Request for Referendum indicate that a referendum is not supported, a referendum would not be conducted. The results of the Request for Referendum will be published in a Notice in the Federal Register.

DATES: Soybean producers may request a referendum during a 4-week period beginning on May 6, 2019, and ending May 31, 2019.

To be eligible to participate in the Request for Referendum, producers must certify that they or the producer entity they are authorized to represent paid an assessment at any time between January 1, 2017, and December 31, 2018.

Form LS-51-1, Soybean Promotion and Research Order Request for Referendum, may be obtained by mail, fax, or in person from the Farm Service Agency (FSA) county offices from May 6, 2019, to May 31, 2019. Form LS-51-1 may also be obtained via the internet at https://www.ams.usda.gov/rules-regulations/research-promotion/soybean during the same time period. Completed forms and supporting documentation must be returned to the appropriate county FSA office by fax or in person no later than close of business May 31, 2019, or if returned by mail, must be postmarked by midnight May 31, 2019, and received in the county FSA office by close of business on June 6, 2019.

FOR FURTHER INFORMATION CONTACT: Kenneth R. Payne, Director, Research and Promotion Division, Livestock and Poultry Program, AMS, USDA, Room 2610-S, STOP 0251, 1400 Independence Avenue SW, Washington, DC 20250-0251; telephone (202) 720-1118; fax (202) 720-1125; or email to Kenneth.Payne@usda.gov; or Rick Pinkston, Field Operations Staff, FSA, USDA, at telephone (202) 720-1857; fax (202) 720-1096; or email at Rick.Pinkston@wdc.usda.gov.

SUPPLEMENTARY INFORMATION: In accordance with the Act (7 U.S.C. 6301-6311), this Notice announces the dates when the Request for Referendum will be conducted and the place where soybean producers may request a referendum on the Order. The Act provides that the Secretary, 5 years after the conduct of the initial referendum and every 5 years thereafter, shall give soybean producers an opportunity to request a referendum on the Order. The initial referendum was held in February 1994, and the results were announced on April 1, 1994. During the initial referendum, 85,606 valid ballots were cast, with 46,060 (53.8 percent) in favor of continuing the Order and 39,546 votes (46.2 percent) against continuing the Order. The Act required approval by a simple majority for the Order to continue.

The most recent opportunity for producers to request a referendum on the Order was in May 2014. During that period, 324 producers completed valid requests—short of the 56,999 required to trigger a referendum. On July 10, 2014, USDA announced the results of the Request for Referendum and that the requisite number of producers had not requested that a referendum be conducted.

Eligibility

To be eligible to participate, soybean producers must certify that they or the entity they are authorized to represent paid an assessment under the Soybean Checkoff Program at sometime between January 1, 2017, and December 31, 2018. They must complete and submit Form LS-51-1, Soybean Promotion and Research Order Request for Referendum, in person, by mail, or by fax between May 6, 2019, and May 31, 2019. Individual producers and other producer entities would request a referendum at the county FSA office where FSA maintains and processes the producer's, corporation's, or other entity's administrative farm records. For the producer, corporation, or other entity not participating in FSA programs, the opportunity to request a referendum would be provided at the county FSA office serving the county where the producer, corporation, or other entity owns or rents land. Form LS-51-1 may also be obtained via the internet at https://www.ams.usda.gov/rules-regulations/research-promotion/soybean. If obtained by the internet, Form LS-51-1 must be completed and returned by mail, fax, or in person with the supporting documentation to the county FSA office where FSA maintains and process the producer's, corporation's, or other entity's administrative farm records.

In accordance with the Paperwork Reduction Act of 1995 [44 U.S.C. 3501 et seq.], the information collection requirements made in connection with the Request for Referendum have been approved by the Office of Management and Budget (OMB) and assigned OMB control number 0581-0093.

Authority: 7 U.S.C. 6301-6311.

Dated: March 12, 2019.
Bruce Summers,
Administrator.

[FR Doc. 2019-04925 Filed 3-15-19; 8:45 am]

BILLING CODE 3410-02-P